DEPARTMENT OF THE TREASURY

Submission for OMB Review; Comment Request

March 4, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 12, 2004 to be assured of consideration.

Departmental Offices/Community Development Financial Institutions (CDFI) Fund

OMB Number: New.

Form Number: CDFI 0007.

Type of Review: New collection.

Title: Annual Survey: Institution-Level Report; Transaction-Level Report; IRS Compliance Questions.

Description: The proposed data collection will be used to collect compliance and performance data from certified CDFIs and CDEs and from NACD awardees. This data collection replaces the Annual Survey and parts of the Annual Report (OMB# 1559-0006).

Respondents: Business or other for-profit, Not-for-profit institution.

Estimated Number of Respondents: 400.

Estimated Burden Hours Per Respondent: 13 hours.

Frequency of Response: Annually.

Estimated Total Reporting Burden: 17,266 hours.

Clearance Officer: Lois K. Holland, (202) 622-1563, Departmental Offices, Room 11309, 1750 Pennsylvania Avenue, NW., Washington, DC 20220.

OMB Reviewer: Joseph F. Lackey, Jr., (202) 395-7316, Office of Management and Budget, Room 10235, New Executive Office Building, Washington, DC 20503.

Lois K. Holland,
Treasury PRA Clearance Officer.

[FR Doc. 04-5583 Filed 3-11-04; 8:45 am]

BILLING CODE 4811-16-P